INTERNATIONAL TRADE COMMISSION

[Investigation No. 731-TA-991 (Second Review)]

Silicon Metal From Russia

Determination

On the basis of the record ¹ developed in the subject five-year review, the United States International Trade Commission (Commission) determines, pursuant to section 751(c) of the Tariff Act of 1930 (19 U.S.C. § 1675(c)), that revocation of the antidumping duty order would be likely to lead to continuation or recurrence of material injury to an industry in the United States within a reasonably foreseeable time.²

¹ The record is defined in sec. 207.2(f) of the Commission's Rules of Practice and Procedure (19 CFR § 207.2(f)).

² Commissioner Rhonda K. Schmidtlein did not participate in the vote.

Background

The Commission instituted this review on June 3, 2013 (78 FR 33064) and determined on September 6, 2013 that it would conduct a full review (78 FR 61384, October 3, 2013). Notice of the scheduling of the Commission's review and of a public hearing to be held in connection therewith was given by posting copies of the notice in the Office of the Secretary, U.S. International Trade Commission, Washington, DC, and by publishing the notice in the Federal Register on December 19, 2013 (78 FR 76856). The hearing was cancelled, on April 7, 2014 (79 FR 19921, April 10, 2014).

The Commission completed and filed its determination in this review on June 11, 2014. The views of the Commission are contained in USITC Publication 4471 (June 2014), entitled Silicon Metal from Russia: Investigation No. 731-TA-991 (Second Review).

By order of the Commission.
Issued: June 12, 2014.
Lisa R. Barton,
Secretary to the Commission.

[FR Doc. 2014-14146 Filed 6-16-14; 8:45 am]

BILLING CODE 7020-02-P